DEPARTMENT OF THE INTERIOR

Fish and Wildlife Service

Migratory Bird Permits; Allowed Take of Nestling American Peregrine Falcons

AGENCY: Fish and Wildlife Service, Interior.

ACTION: Notice.

SUMMARY: We (the U.S. Fish and Wildlife Service) have updated information on nesting of American peregrine falcons (Falco peregrinus anatum) in the western United States and have determined the allowed take of nestlings in 12 western States in 2006.

FOR FURTHER INFORMATION CONTACT: Brian Millsap, Chief, Division of Migratory Bird Management, U.S. Fish and Wildlife Service, 703-358-1714, or Dr. George T. Allen, Wildlife Biologist, 703-358-1825.

SUPPLEMENTARY INFORMATION: In 2004, we completed a Final Revised Environmental Assessment (FEA) considering the take of nestling American peregrine falcons in 12 States in the western United States. Since completion of the FEA, we have consulted with the States in which take of nestlings is allowed, and have considered recent information on the numbers of nesting American peregrine falcon populations and production of young American peregrine falcons in those states, as outlined in the “Management of Falconry Take” section of the FEA. Having considered the most recent data available to us, we have updated the population information from the FEA. For states with no new statewide survey data, we assumed no population growth since the last survey.

The allowed take in 2004 was approximately 4.8 percent of the total estimated production of young; actual harvest, however, was approximately 0.5 percent of the estimated production. The allowed take in 2005 was 4.1 percent of the estimated production of young, but the actual harvest was only 0.6 percent of the estimated production. The allowed take of nestling American peregrine falcons in the western U.S. in 2006 is shown in the last column of the data summary. Because the number of nestlings allowed to be taken in each state is rounded down to the next lowest whole number, the allowed take will be approximately 4.4 percent of the total estimated production of young for 2006.

State | Nesting pairs reported in the FEA | Minimum 2005 nesting pairs | Recent productivity (young per nesting pair) | 2005 allowed take | 2005 actual take | 2006 allowed take
Alaska | 930 | 930 | 0.95 | 44 | 1 | 44
Arizona | 167 | 167 | 1.02 | 8 | 2 | 8
California | 167 | 167 | 1.52 | 11 | 0 | 11
Colorado | 87 | 87 | 1.71 | 7 | 0 | 7
Idaho | 24 | 26 | 1.47 | 1 | 0 | 1
Montana | 41 | 54 | 1.89 | 4 | 0 | 4
Nevada | 9 | 24 | (¹) | 0 | 0 | 0
New Mexico | 37 | 37 | 1.47 | 2 | 0 | 2
Oregon | 70 | 76 | 1.70 | 6 | 0 | 6
Utah | 164 | 164 | 1.55 | 12 | 5 | 12
Washington | 46 | * 104 | 1.47 | 3 | 3 | * 8
Wyoming | 58 | 65 | 1.79 | 5 | 3 | 5
Total | 1,800 | 1,826 | NA | 103 | 14 | 108
* Based on calculations of the Washington Department of Fish and Wildlife, as allowed under the FEA.
¹ Insufficient Data.

The states may regulate details of take, consistent with the federal falconry regulations found at 50 CFR 21.28 and 21.29. For example, the state may decide whether to allow take of nestlings, numbers of individuals of each sex that may be taken, timing and location of take of nestlings, restrictions on aerie access, and allocation of take among interested falconers.

Dated: February 1, 2006.
Matt Hogan,
Assistant Secretary for Fish and Wildlife and Parks.

[FR Doc. E6-2428 Filed 2-21-06; 8:45 am]

BILLING CODE 4310-55-P